DEPARTMENT OF COMMERCE

International Trade Administration

Announcement of Changes to the Membership of the Performance Review Board

AGENCY: International Trade Administration, Department of Commerce.

ACTION: Notice of Performance Review Board Membership.

SUMMARY: The regulations at 5 CFR 430.310 require agencies to publish notice of Performance Review Board appointees in the Federal Register before their service begins. In accordance with those regulations, this notice announces changes to the membership of the International Trade Administration's Performance Review Board.

DATES: Effective Date: The changes made to the Performance Review Board is effective October 17, 2011.

FOR FURTHER INFORMATION CONTACT: Ronda L. Holbrook, U.S. Department of Commerce, Human Resources Operations Center (DOCHROC), Office of Executive Resources Operations, 14th and Constitution Avenue, NW., Room 7419, Washington, DC 20230, at (202) 482-5243.

SUPPLEMENTARY INFORMATION: The International Trade Administration (ITA) published its list of Performance Review Board appointees pursuant to the regulations at 5 CFR 430.310 (74 FR 51261). The purpose of the Performance Review Board is to review and make recommendations to the appointing authority on performance management issues such as appraisals, bonuses, pay level increases, and Presidential Rank Awards for members of the Senior Executive Service.

ITA publishes this notice to announce changes to the Performance Review Board's membership. The name, position title, and type of appointment of each member of ITA's:

Performance Review Board Are Set Forth Below By Organization

1. John M. Andersen, Deputy Assistant Secretary for Market Access and Compliance, ITA, career, new member, serves as Chair.

2. Bryan J. Erwin, Director Advocacy Center, ITA, non-career, new member.

3. Patricia M. Sefcik, Chief Financial Officer and Director of Administration, ITA, career.

4. Christian Marsh, Deputy Assistant Secretary for Antidumping and Countervailing Duty Operations, ITA, career, new member.

5. Praveen M. Dixit, Deputy Assistant Secretary for Industry Analysis, ITA, career, new member.

6. Ellen Herbst, Senior Advisor for Policy and Program Integration, Office of the Secretary, career, new member.

Dated: October 11, 2011.
Susan Boggs,
Director, Office of Staffing, Recruitment, and Classification, Department of Commerce Human Resources Operations Center.

[FR Doc. 2011-26739 Filed 10-14-11; 8:45 am]

BILLING CODE 3510-DS-P